SECURITIES AND EXCHANGE COMMISSION

Sunshine Act Meeting

Notice is hereby given, pursuant to the provisions of the Government in the Sunshine Act, Pub. L. 94-409, that the Securities and Exchange Commission will hold a Roundtable on Fair Value Accounting Standards on Wednesday, July 9, 2008 beginning at 9 a.m.

The Roundtable will take place in the Auditorium of the Commission's headquarters at 100 F Street, NE., Washington, DC. The Roundtable will be open to the public with seating on a first-come, first-served basis. Doors will open at 8:30 a.m. Visitors will be subject to security checks.

The roundtable will consist of an open discussion of the benefits and potential challenges associated with existing fair value accounting and auditing standards and will be organized as two panels: The first panel will discuss fair value accounting issues from the perspective of larger financial institutions and the needs of their investors; and the second panel will discuss the issues from the perspective of all public companies, including small public companies and the needs of their investors.

For further information, please contact the Office of the Secretary at (202) 551-5400.

Dated: July 1, 2008.
Florence E. Harmon,
Acting Secretary.

[FR Doc. E8-15285 Filed 7-3-08; 8:45 am]

BILLING CODE 8010-01-P